SOCIAL SECURITY ADMINISTRATION

Agency Information Collection Activities: Proposed Request and Comment Request

The Social Security Administration (SSA) publishes a list of information collection packages that will require clearance by the Office of Management and Budget (OMB) in compliance with Pub. L. 104-13 effective October 1, 1995, The Paperwork Reduction Act of 1995. SSA is soliciting comments on the accuracy of the agency's burden estimate; the need for the information; its practical utility; ways to enhance its quality, utility and clarity; and on ways to minimize burden on respondents, including the use of automated collection techniques or other forms of information technology.

Written comments and recommendations regarding the information collection(s) should be submitted to the OMB Desk Officer and the SSA Reports Clearance Officer at the following addresses:

(OMB)

Office of Management and Budget, Attn: Desk Officer for SSA, New Executive Office Building, Room 10235, 725 17th St., NW., Washington, DC 20503.

(SSA)

Social Security Administration, DCFAM, Attn: Reports Clearance Officer, 1-A-21 Operations Bldg., 6401 Security Blvd., Baltimore, MD 21235.

I. The information collections listed below will be submitted to OMB within 60 days from the date of this notice. Therefore, your comments should be submitted to SSA within 60 days from the date of this publication. You can obtain copies of the collection instruments by calling the SSA Reports Clearance Officer at 410-965-0454, or by writing to the address listed above.

1. Petition To Obtain Approval Of A Fee For Representing A Claimant Before The Social Security Administration—0960-0104. A representative of a claimant for Social Security benefits must file either a fee petition or a fee agreement with SSA in order to charge a fee for representing a claimant in proceedings before the SSA. The representative uses Form SSA-1560 to petition SSA for authorization to charge and collect a fee. A claimant may also use the form to agree or disagree with the requested fee amount or other information the representative provides on the form. SSA uses the information to determine a reasonable fee that a representative may charge and collect for his or her services. The respondents are claimants, their attorneys and other persons representing them.

Number of Respondents: 34,624.

Frequency of Response: 1.

Average Burden Per Response: 30 minutes.

Estimated Average Burden: 17,312 hours.

2. Coverage of Employees of State and Local Governments—0960-0425. In order for State and local employees working in positions covered by Social Security to get credit for their covered wages, States and Interstate Instrumentalities are required to provide wage and deposit contribution information (for Pre-1987 periods) to SSA. The information collected is needed to post wages to individuals' Social Security earnings records and to perform audit and Trust Fund accounting functions. The respondents are State and Local Governments, or Interstate Instrumentalities, that are required to provide SSA with wage and deposit contribution information for Pre-1987 periods.

Number of Respondents: 55.

Frequency of Response: varies.

Average Burden Per Response: varies (.5-5 hours).

Estimated Annual Burden: 434 hours.

3. Application for Mother's or Father's Insurance Benefits-0960—0003. SSA uses the information collected on the Form SSA-5-F6 or during a personal interview with a claimant to entitle an individual to mother's or father's insurance benefits. The respondents are applicants for Mother's or Father's insurance Benefits.

Number of Respondents: 50,000.

Frequency of Response: 1.

Average Burden Per Response: 15 minutes.

Estimated Annual Burden: 12,500 hours.

4. Marriage Certification—0960-0009. Form SSA-3-F6 is used by SSA to determine if the claimant filing for spouse's benefits has the necessary relationship to the worker as required by section 216(h)(1) of the Social Security Act. The respondents are applicants for spouse's benefits.

Number of Respondents: 180,000.

Frequency of Response: 1.

Average Burden Per Response: 5 minutes.

Estimated Annual Burden: 15,000 hours.

5. Claimant's Work Background—0960-0300. SSA uses the information collected on Form HA-4633 to provide claimant's their statutory right to a hearing and decision under the Social Security Act. A completed form provides an updated summary of a claimant's past relevant work and helps the Administrative Law Judge to decide whether or not the claimant is disabled. The respondents are claimants requesting hearings on entitlement to benefits based on disability under titles II and/or XVI of the Act.

Number of Respondents: 120,000.

Frequency of Response: 1.

Average Burden Per Response: 30 minutes.

Estimated Annual Burden: 60,000 hours.

II. The information collection listed below has been submitted to OMB for clearance. Your comments on the information collection would be most useful if received by OMB and SSA within 30 days from the date of this publication. You can obtain a copy of the OMB clearance package by calling the SSA Reports Clearance Officer on (410) 965-0454, or by writing to the address listed above.

Disability Hearing Officer's Decision—Title XVI Disabled Child Continuing Disability Review—0960-NEW. The information collected on form SSA-1209 will be used by State Disability Hearing Officers (DHO) to formalize disability decisions. The form will aid the DHO in addressing the crucial elements of the case in a sequential and logical fashion. The form is used as the official determination of the DHO's decision and the personalized portion of the notice to the claimant.

Number of Respondents: 35,000.

Frequency of Response: 1.

Average Burden Per Response: 1¼ hours.

Estimated Annual Burden: 43,750 hours.

Dated: June 5, 2002.
Elizabeth Davidson,
Reports Clearance Officer, Social Security Administration.

[FR Doc. 02-14671 Filed 6-10-02; 8:45 am]

BILLING CODE 4191-02-P